DEPARTMENT OF DEFENSE

Office of the Secretary

[Docket ID: DoD-2021-OS-0095]

Submission for OMB Review; Comment Request

AGENCY: Office of the Under Secretary of Defense for Personnel and Readiness (USD(P&R)), Department of Defense (DoD).

ACTION: 30-Day information collection notice.

SUMMARY: The Department of Defense has submitted to OMB for clearance the following proposal for collection of information under the provisions of the Paperwork Reduction Act.

DATES: Consideration will be given to all comments received by February 23, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Exceptional Family Member Program Family Needs Assessment; DD Form 3054; OMB Control Number 0704-0580.

Type of Request: Extension.

Number of Respondents: 20,000.

Responses per Respondent: 1.

Annual Responses: 20,000.

Average Burden per Response: 30 minutes.

Annual Burden Hours: 10,000 hours.

Needs and Uses: Section 1781c of Title 10, U.S.C. requires the Office of Community Support for Military Families with Special Needs (OSN) to enhance and improve support for military families with special needs. In this effort, OSN and the four Services developed the DD Form 3054 Exceptional Family Member Program (EFMP) Family Needs Assessment (FNA) as standard documentation to guide assessment of needs, service planning and case transfer processes for the Family Support component of the EFMP. The EFMP FNA assists EFMP Family Support staff in identifying the needs of families and developing plans of action. The EFMP FNA addresses current differences in assessment processes and inconsistent transfer of cases across the Services. With this standardized form, installation-level EFMP Family Support Offices can provide a family support experience that is consistent across the Services and maintains continuity of services when military families with special needs have Permanent Change of Station orders to a Same-Service or Sister-Service location. DD Form 3054 is used by EFMP Family Support staff in collaboration with families who request assistance in navigating resources and systems of support. The form documents a family's needs and provides a plan for them to gain access to support and resources in the community which meets those needs. The Family Services Plan Addendum provides a plan of action and a way to track the progress towards goals set by the family with the assistance of the EFMP Family Support staff.

Affected Public: Individuals or households.

Frequency: On occasion.

Respondent's Obligation: Voluntary.

OMB Desk Officer: Ms. Jasmeet Seehra.

You may also submit comments and recommendations, identified by Docket ID number and title, by the following method:

• Federal eRulemaking Portal: https://www.regulations.gov. Follow the instructions for submitting comments.

Instructions: All submissions received must include the agency name, Docket ID number, and title for this Federal Register document. The general policy for comments and other submissions from members of the public is to make these submissions available for public viewing on the internet at https://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: January 19, 2022.
Aaron T. Siegel,
Alternate OSD Federal Register Liaison Officer, Department of Defense.

[FR Doc. 2022-01268 Filed 1-21-22; 8:45 am]

BILLING CODE 5001-06-P